DEPARTMENT OF HEALTH AND HUMAN SERVICES

Food and Drug Administration

21 CFR Parts 145 and 155

[Docket No. FDA-2025-N-1184]

RIN 0910-AJ06

Revocation of Food Standards for 11 Products Not Currently Sold; Confirmation of Effective Date

AGENCY: Food and Drug Administration, HHS.

ACTION: Direct final rule; confirmation of effective date.

SUMMARY: The Food and Drug Administration (FDA or we) is confirming the effective date of September 22, 2025, for the direct final rule published in the Federal Register of July 17, 2025, revoking 11 standards of identity for canned fruits and vegetable products that are no longer sold in the United States.

DATES: The effective date of September 22, 2025, for the direct final rule published in the Federal Register on July 17, 2025 (90 FR 33268), is confirmed.

FOR FURTHER INFORMATION CONTACT: Meridith L. Kelsch, Office of Policy, Regulations, and Information, Human Foods Program, Food and Drug Administration, 5001 Campus Dr., College Park, MD 20740, 240-402-2378.

SUPPLEMENTARY INFORMATION: In the Federal Register of July 17, 2025 (90 FR 33268), FDA issued a direct final rule revoking 11 standards of identity for canned fruits and vegetable products that are no longer sold in the United States. FDA took this action as these standards are no longer necessary to promote honesty and fair dealing in the interest of consumers, and this action will remove obsolete rules to reduce unnecessary regulatory requirements. The direct final rule provided a 30-day comment period ending August 18, 2025. We stated that the effective date of the direct final rule would be September 22, 2025, unless we received a significant adverse comment during the comment period. We did not receive any significant adverse comments. Therefore, the effective date of the direct final rule is September 22, 2025.

Authority

21 U.S.C. 321, 341, 343, 348, 371, 379e. Accordingly, the revocations issued thereby are effective on September 22, 2025.

Grace R. Graham,
Deputy Commissioner for Policy, Legislation, and International Affairs.

[FR Doc. 2025-18730 Filed 9-25-25; 8:45 am]

BILLING CODE 4164-01-P